DEPARTMENT OF THE INTERIOR

Office of the Secretary

[15XD5141GM DGM000000.000000 6100.241A0 DN18000000]

Proposed Appointment to the National Indian Gaming Commission

AGENCY: Office of the Secretary, Interior.

ACTION: Notice.

SUMMARY: The Indian Gaming Regulatory Act provides for a three-person National Indian Gaming Commission. One member, the Chair, is appointed by the President with the advice and consent of the Senate. Two associate members are appointed by the Secretary of the Interior. Before appointing members, the Secretary is required to provide public notice of a proposed appointment and allow a comment period. Notice is hereby given of the proposed appointment of Jeannie Hovland as an associate member of the National Indian Gaming Commission for a term of 3 years.

DATES: Submit comments on or before January 13, 2021.

ADDRESSES: Send comments to the Director, Office of the Executive Secretariat and Regulatory Affairs, U.S. Department of the Interior, 1849 C Street NW, Mail Stop 7328, Washington, DC 20240.

FOR FURTHER INFORMATION CONTACT: Mr. Michael Hoenig, National Indian Gaming Commission, c/o Department of the Interior, 1849 C Street NW, Mail Stop 1621, Washington, DC 20240; telephone (202) 632-7003; facsimile (202) 632-7066.

SUPPLEMENTARY INFORMATION: The Indian Gaming Regulatory Act, 25 U.S.C. 2701 et. seq., established the National Indian Gaming Commission (Commission), composed of three full-time members. Commission members serve for a term of 3 years. The Chair is appointed by the President with the advice and consent of the Senate. The two associate members are appointed by the Secretary of the Interior. Before appointing an associate member to the Commission, the Secretary is required to “publish in the Federal Register the name and other information the Secretary deems pertinent regarding a nominee for membership on the Commission and . . . allow a period of not less than thirty days for receipt of public comments.” See 25 U.S.C. 2704(b)(2)(B).

The Secretary proposes to appoint Jeannie Hovland as an associate member of the Commission for a term of 3 years. Ms. Hovland is well qualified to be a member of the National Indian Gaming Commission by virtue of her extensive background and experience in a broad spectrum of Native American issues.

Ms. Hovland is an enrolled member of the Flandreau Santee Sioux Tribe of South Dakota and currently serves as Commissioner of the Administration for Native Americans and Deputy Assistant Secretary for Native American Affairs at the Department of Health and Human Services (HHS). As Commissioner, Ms. Hovland provides effective oversight of a $57milllion annual operating budget to promote self-sufficiency for Native Americans. She provides executive leadership of a diverse staff of 30 employees and four regional training and technical assistant centers. During her time at HHS, Ms. Hovland created a $1 million funding opportunity designed to strengthen internal governance structures and capacity for tribes and tribal organizations. She also reestablished and Chairs the HHS Secretary's Intradepartmental Council on Native American Affairs, comprised of leadership across the Department.

In her role as Deputy Assistant Secretary for Native American Affairs for the Administration for Children and Families (ACF), a large and diverse program office with an $8 billion annual operating budget, over 1700 employees, and 10 regional offices, Ms. Hovland provides expert and culturally appropriate advice to the Assistant Secretary in the formulation of policy views, positions, and strategies affecting Native Americans. She serves as the key liaison and representative of all ACF program and staff offices on behalf of the Assistant Secretary related to tribal and Native American Affairs.

Prior to her appointment at HHS, Ms. Hovland served as senior advisor to the Assistant Secretary for Indian Affairs at the Department of the Interior. Ms. Hovland has also served as the tribal affairs advisor to Senator John Thune for more than 12 years. She played a key role in advocating for legislation at the request of Indian tribes on such issues as agriculture, services for law enforcement and veterans, and quality access to healthcare. She worked to develop legislation, such as the Tribal Law and Order Act of 2010 and the Code Talker Recognition Act of 2008.

Prior to her time in public service, Hovland was CEO of Wanji Native Nations Consultants, which offered training services for Tribal programs and Tribal governments.

Ms. Hovland does not have any financial interests that would make her ineligible to serve on the Commission under 25 U.S.C. 2704(b)(5)(B) or (C).

Any person wishing to submit comments on the proposed appointment of Jeannie Hovland may submit written comments to the address listed above. Comments must be received by January 13, 2021.

Dated: December 8, 2020.
David L. Bernhardt,
Secretary of the Interior.

[FR Doc. 2020-27464 Filed 12-11-20; 8:45 am]

BILLING CODE 4334-63-P